FEDERAL MARITIME COMMISSION

Ocean Transportation Intermediary License Rescission of Orders of Revocation

Notice is hereby given that the Orders revoking the following licenses are being rescinded by the Federal Maritime Commission pursuant to section 19 of the Shipping Act of 1984 (46 U.S.C. Chapter 409) and the regulations of the Commission pertaining to the licensing of Ocean Transportation Intermediaries, 46 CFR Part 515.

License Number: 017378NF.

Name: E.M.W. Freight Forwarding Corp.

Address: 10300 Northwest 19th Street, Miami, FL 33172.

Order Published: FR: 08/01/07 (Volume 72, No. 147 Pg. 42090).

License Number: 019643NF.

Name: Sigma Logistics, Inc.

Address: 1100 S. El Molino Ave., Pasadena, CA 91106.

Order Published: FR: 08/01/07 (Volume 72, No. 147 Pg. 42091).

License Number: 015605N.

Name: Solid Trans Inc.

Address: 1401 S. Santa Fe Ave., Compton, CA 90221.

Order Published: FR: 08/01/07 (Volume 72, No. 147 Pg. 42091).

Sandra L. Kusumoto,
Director, Bureau of Certification and Licensing.

[FR Doc. E7-15995 Filed 8-14-07; 8:45 am]

BILLING CODE 6730-01-P